DEPARTMENT OF LABOR

Pension and Welfare Benefits Administration

Working Group on Increasing Pension Coverage, Participation and Benefits Advisory Council on Employee Welfare and Pension Benefits Plans; Notice of Meeting

Pursuant to the authority contained in section 512 of the Employee Retirement Income Security Act of 1974 (ERISA), 29 U.S.C. 1142, the Working Group assigned by the Advisory Council on Employee Welfare and Pension Benefit Plans to study the issue of increasing pension coverage, participation and benefits will hold an open public meeting on Monday, April 9, 2001, in Room N-5437 A-D, U.S. Department of Labor Building, Second and Constitution Avenue, NW., Washington, DC 20210.

The purpose of the open meeting, which will run from 9:30 a.m. to approximately noon, is for Working Group members to hold an organizational meeting and begin taking testimony on their topic, which, it is hoped, will include testimony on current methods employed to improve retirement security. The working group will study ways to increase participation levels and, ultimately, coverage, as well as other related topics that might optimize retirement security.

James S. Ray, the Law Office of James S. Ray of Alexandria, VA., will chair the working group and vice chair will be Judith Mazo, senior vice president/director of research of the Segal Company, Washington, DC.

Members of the public are encouraged to file a written statement pertaining to the topic by submitting 20 copies on or before April 1, 2001, to Sharon Morrissey, Executive Secretary, ERISA Advisory Council, U.S. Department of Labor, Room N-5677, 200 Constitution Avenue, NW., Washington, DC 20210. Individuals or representatives of organizations wishing to address the Working Group should forward their request to the Executive Secretary or telephone (202) 219-8753. Oral presentations will be limited to 10 minutes, but an extended statement may be submitted for the record. Individuals with disabilities, who need special accommodations, should contact Sharon Morrissey by April 1, at the address indicated in this notice.

Organizations or individuals may also submit statements for the record without testifying. Twenty (20) copies of such statements should be sent to the Executive Secretary of the Advisory Council at the above address. Papers will be accepted and included in the record of the meeting if received on or before April 1.

Signed at Washington, DC this 13th day of March 2001.
Alan D. Lebowitz,
Acting Assistant Secretary, Pension and Welfare Benefits Administration.

[FR Doc. 01-6784 Filed 3-19-01; 8:45 am]

BILLING CODE 4510-29-M